DEPARTMENT OF COMMERCE

International Trade Administration

[A-580-836]

Certain Cut-to-Length Carbon-Quality Steel Plate from the Republic of Korea: Extension of the Final Results of Antidumping Duty Administrative Review

AGENCY: Import Administration, International Trade Administration, Department of Commerce.

DATES: Effective Date: January 14, 2010.

FOR FURTHER INFORMATION CONTACT: Yang Jin Chun, AD/CVD Operations, Office 5, Import Administration, International Trade Administration, U.S. Department of Commerce, 14th Street and Constitution Avenue, NW, Washington, DC 20230; telephone: (202) 482-5760.

SUPPLEMENTARY INFORMATION:

Background

On September 24, 2009, the Department of Commerce (the Department) published the preliminary results of the administrative review of the antidumping duty order on certain cut-to-length carbon-quality steel plate from the Republic of Korea and intent to rescind the administrative review in part. See Certain Cut-to-Length Carbon-Quality Steel Plate From the Republic of Korea: Preliminary Results of Antidumping Duty Administrative Review and Intent To Rescind Administrative Review in Part, 74 FR 48716 (September 24, 2009), as corrected in Certain Cut-to-Length Carbon-Quality Steel Plate from the Republic of Korea: Correction to the Preliminary Results of Antidumping Duty Administrative Review and Intent to Rescind Administrative Review in Part, 74 FR 51834 (October 8, 2009). The review covers the period February 1, 2008, through January 31, 2009. The final results of the review are currently due no later than January 22, 2010.

Extension of Time Limit for Final Results

Section 751(a)(3)(A) of the Tariff Act of 1930, as amended (the Act), requires the Department to complete the final results within 120 days after the date on which the preliminary results are published. If it is not practicable to complete the final results within this time period and if the Department did not extend the time for issuing the preliminary results, section 751(a)(3)(A) of the Act allows the Department to extend the time limit for the completion of the final results to a maximum of 300 days after the date on which the preliminary results are published.

We determine that it is not practicable to complete the final results of this review within the original time limit because of certain issues involving new factual information submitted in an untimely manner. Therefore, we are extending the time period for issuing the final results of this review by 31 days until February 22, 2010.

This notice is published in accordance with section 751(a)(3)(A) of the Act and 19 CFR 351.213(h)(2).

Dated: January 8, 2010.
John M. Andersen,
Acting Deputy Assistant Secretary for Antidumping and Countervailing Duty Operations.

[FR Doc. 2010-582 Filed 1-13-10; 8:45 am]

BILLING CODE 3510-DS-S